SMALL BUSINESS ADMINISTRATION

[Declaration of Disaster #3384]

State of Alabama

As a result of the President's major disaster declaration on December 7, 2001, I find that Autauga, Blount, Butler, Calhoun, Cherokee, Clay, Dale, DeKalb, Etowah, Fayette, Jefferson, Lamar, Lawrence, Madison, Marion, Marshall, St. Clair, Talladega and Winston Counties in the State of Alabama constitute a disaster area due to damages caused by severe storms and tornadoes occurring on November 24-25, 2001. Applications for loans for physical damage as a result of this disaster may be filed until the close of business on February 5, 2002 and for economic injury until the close of business on September 9, 2002 at the address listed below or other locally announced locations: U.S. Small Business Administration, Disaster Area 2 Office, One Baltimore Place, Suite 300, Atlanta, GA 30308.

In addition, applications for economic injury loans from small businesses located in the following contiguous counties may be filed until the specified date at the above location: Barbour, Bibb, Chilton, Cleburne, Coffee, Colbert, Conecuh, Coosa, Covington, Crenshaw, Cullman, Dallas, Elmore, Franklin, Geneva, Henry, Houston, Jackson, Lauderdale, Limestone, Lowndes, Monroe, Montgomery, Morgan, Pickens, Pike, Randolph, Shelby, Tallapoosa, Tuscaloosa, Walker and Wilcox counties in the State of Alabama; Chattooga, Dade, Floyd, Polk and Walker counties in the State of Georgia; Itawamba, Lowndes and Monroe counties in the State of Mississippi; Franklin and Lincoln counties in the State of Tennessee.

The interest rates are:

| Percent
For Physical Damage:
Homeowners with Credit Available Elsewhere | 6.500
Homeowners without Credit Available Elsewhere | 3.250
Businesses with Credit Available Elsewhere | 8.000
Businesses and Non-Profit Organizations without Credit Available Elsewhere | 4.000
Others (Including Non-Profit Organizations) with Credit Available Elsewhere | 6.375
For Economic Injury:
Businesses and Small Agricultural Cooperatives without Credit Available Elsewhere | 4.000

The number assigned to this disaster for physical damage is 338411. For economic injury the number is 9N7600 for Alabama; 9N7700 for Georgia; 9N7800 for Mississippi; and 9N7900 for Tennessee.

Dated: December 10, 2001.
(Catalog of Federal Domestic Assistance Program Nos. 59002 and 59008).
Herbert L. Mitchell,
Associate Administrator for Disaster Assistance.

[FR Doc. 01-30975 Filed 12-14-01; 8:45 am]

BILLING CODE 8025-01-P